DEPARTMENT OF ENERGY

Federal Energy Regulatory Commission

[Docket No. IC22-23-000]

Commission Information Collection Activities (FERC-516a); Comment Request; Extension

AGENCY: Federal Energy Regulatory Commission.

ACTION: Notice of information collection and request for comments.

SUMMARY: In compliance with the requirements of the Paperwork Reduction Act of 1995, the Federal Energy Regulatory Commission (Commission or FERC) is soliciting public comment on the currently approved information collection, FERC-516A (Standardization of Small Generator Interconnection Agreements and Procedures) which will be submitted to the Office of Management and Budget (OMB) for a review of the information collection requirements.

DATES: Comments on the collection of information are due January 20, 2023.

ADDRESSES: Send written comments on FERC-516A to OMB through www.reginfo.gov/public/do/PRAMain, Attention: Federal Energy Regulatory Commission Desk Officer. Please identify the OMB control number (1902-0203) in the subject line. Your comments should be sent within 30 days of publication of this notice in the Federal Register.

Please submit copies of your comments (identified by Docket No. IC22-23-000) to the Commission as noted below. Electronic filing through http://www.ferc.gov is preferred.

• Electronic Filing: Documents must be filed in acceptable native applications and print-to-PDF, but not in scanned or picture format.

• For those unable to file electronically, comments may be filed by USPS mail or by hand (including courier) delivery.

○ Mail via U.S. Postal Service Only: Addressed to: Federal Energy Regulatory Commission, Secretary of the Commission, 888 First Street NE, Washington, DC 20426.

○ Hand (including courier) delivery: Deliver to: Federal Energy Regulatory Commission, 12225 Wilkins Avenue, Rockville, MD 20852.

Instructions: OMB submissions must be formatted and filed in accordance with submission guidelines at www.reginfo.gov/public/do/PRAMain; Using the search function under the “Currently Under Review field,” select Federal Energy Regulatory Commission; click “submit” and select “comment” to the right of the subject collection.

FERC submissions must be formatted and filed in accordance with submission guidelines at: http://www.ferc.gov. For user assistance, contact FERC Online Support by email at ferconlinesupport@ferc.gov, or by phone at: (866) 208-3676 (toll-free).

Docket: Users interested in receiving automatic notification of activity in this docket or in viewing/downloading comments and issuances in this docket may do so at http://www.ferc.gov.

FOR FURTHER INFORMATION CONTACT: Ellen Brown may be reached by email at DataClearance@FERC.gov and telephone at (202) 502-8663.

SUPPLEMENTARY INFORMATION:

Title: FERC-516A, Standardization of Small Generator Interconnection Agreements and Procedures.

OMB Control No.: 1902-0203.

Type of Request: Three-year extension of the FERC-516A information collection requirements with no changes to the current reporting requirements.¹

¹ This information collection request does not include the revisions in the information collection request involving FERC-516 and FERC-516A in the proposed rule in FERC Docket No. RM22-14-000.

Abstract: Sections 205 and 206 of the Federal Power Act (FPA) (16 U.S.C. 824d and 824e) require the Commission to ensure just and reasonable electric transmission rates and charges, and ensure that jurisdictional providers do not subject any person to any undue prejudice or disadvantage. In order to implement these Commission responsibilities, the regulation at 18 CFR 35.28(f)(1) requires transmission providers to include the following information in their open-access transmission tariffs (OATTs): ²

² The regulation at 35.28(c)(1) requires an OATT “of general applicability” for every public utility that owns, controls, or operates facilities used for the transmission of electric energy in interstate commerce. The OATT must be the pro forma tariff promulgated by the Commission, as amended from time to time, or such other tariff as may be approved by the Commission consistent with the principles set forth in Commission rulemaking proceedings promulgating and amending the pro forma tariff.

• Commission-approved, standard, pro forma interconnection procedures (i.e., small generator interconnection procedures or SGIP); and

• A single, uniformly applicable interconnection agreement (i.e., a small generator interconnection agreement or SGIA).

This information helps the Commission ensure that transmission providers consider and process interconnection requests by small generators consistently and in compliance with the FPA.

³ The Commission defines burden as the total time, effort, or financial resources expended by persons to generate, maintain, retain, or disclose or provide information to or for a Federal agency. For further explanation of what is included in the information collection burden, see 5 CFR 1320.3.

Type of Respondents: Jurisdictional transmission service providers and interconnection customers.

Estimate of Annual Burden: ³ The Commission estimates the annual public reporting burden for the information collection as follows:

⁴ All requirements for transmission providers are mandatory. All requirements for interconnection customers are voluntary.

⁵ Commission staff assumes that the average hourly cost (including wages and benefits) for the industry is comparable to the $87.00 average hourly cost in FY2021 (including wages and benefits) for Commission employees.

⁶ We assume each request for a pre-application report corresponds with one Interconnection Customer.

Requirements ⁴ | Number of respondents annually | Annual number of responses per respondent | Total number of responses | Average burden & cost per response ⁵ | Total annual burden hours & total annual cost | Cost per respondent ($)
| (1) | (2) | (1) * (2) = (3) | (4) | (3) * (4) = (5) | (5) ÷ (1)
Maintenance of Documents—Transmission Providers | 46 | 1 | 46 | 1 hr.; $87.00 | 46 hrs.; $4,002 | $87.00
Filing of Agreements—Transmission Providers | 95 | 1 | 95 | 25 hrs.; $2,175.00 | 2,375 hrs.; $206,625 | 2,175.00
Pre-Application Report—Interconnection Customers ⁶ | 800 | 1 | 800 | 1 hr.; $87.00 | 800 hrs.; $69,600 | 87.00
Pre-Application Report—Transmission Providers | 142 | 6 | 852 | 2.5 hrs.; $217.50 | 2,130 hrs.; $185,310 | 1,305
Supplemental Review—Interconnection Customers | 500 | 1 | 500 | 0.5 hr.; $43.50 | 250 hrs.; $21,750 | 43.50
Supplemental Review—Transmission Providers | 142 | 3.52 | * 500 | 20 hrs.; $1,740.00 | 10,000 hrs.; $870,000 | * 6,126.76
Review of Required Upgrades—Interconnection Customers | 250 | 1 | 250 | 1 hr.; $87.00 | 250 hrs.; $21,750 | 87.00
Review of Required Upgrades—Transmission Providers | 142 | 1.76 | 250 | 2 hrs.; $174 | 500 hrs.; $43,500 | * 306.34
Totals |  |  | 3,293 |  | 16,351 hrs.; $1,422,537 |
* (rounded).

Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: December 15, 2022.
Debbie-Anne A. Reese,
Deputy Secretary.

[FR Doc. 2022-27719 Filed 12-20-22; 8:45 am]

BILLING CODE 6717-01-P